Presidential Determination No. 2007-18 of May 9, 2007

Presidential Determination on Transfer of Funds from FY 2006 Economic Support Fund Account to the International Peacekeeping Account To Support Security Sector Reform in Liberia

Memorandum for the Secretary of State

Pursuant to the authority vested in me by the Constitution and the laws of the United States, including section 610 of the Foreign Assistance Act of 1961, as amended (the “Act”), and section 301 of title 3 of the United States Code, I hereby determine it necessary for the purposes of the Act that $11 million in FY 2006 funds made available under the Economic Support Fund account be transferred to, and consolidated with, funds made available under chapter 6 of part II of the Act, and such funds are hereby so transferred and consolidated.

You are hereby authorized and directed to report this determination to the Congress and to publish it in the Federal Register.

THE WHITE HOUSE,

Washington, May 9, 2007.

[FR Doc. 07-2581

Filed 5-22-07; 8:45 am]

Billing code 4710-10-P